FEDERAL COMMUNICATIONS COMMISSION

[IB Docket No. 04-286; DA 12-1154]

First Meeting of the Advisory Committee for the 2015 World Radiocommunication Conference

AGENCY: Federal Communications Commission.

ACTION: Notice.

SUMMARY: In accordance with the Federal Advisory Committee Act, this notice advises interested persons that the initial meeting of the WRC-15 Advisory Committee will be held on August 9, 2012, at the Federal Communications Commission. The purpose of the meeting is to begin preparations for the 2015 World Radiocommunication Conference.

DATES: August 9, 2012; 9 a.m.

ADDRESSES: Federal Communications Commission, 445 12th Street SW., Room TW-C305, Washington DC 20554.

FOR FURTHER INFORMATION CONTACT: Alexander Roytblat, Designated Federal Official, WRC-15 Advisory Committee, FCC International Bureau, Strategic Analysis and Negotiations Division, at (202) 418-7501.

SUPPLEMENTARY INFORMATION: As it initiates preparations for the next World Radiocommunication Conference that has been preliminarily scheduled for the year 2015 (WRC-15), the Federal Communications Commission (FCC) has amended the charter of its Advisory Committee for the 2012 Radiocommunication Conference. The Advisory Committee has been renamed the Advisory Committee for the 2015 Radiocommunication Conference (or simply, WRC-15 Advisory Committee), and its scope of activities have been amended to address issues contained in the agenda for WRC-15. The Federal Communications Commission (FCC) established the WRC-15 Advisory Committee to provide advice, technical support and recommendations relating to the preparation of United States proposals and positions for the 2015 World Radiocommunication Conference (WRC-15).

In accordance with the Federal Advisory Committee Act, Public Law 92-463, as amended, this notice advises interested persons of the first meeting of the WRC-15 Advisory Committee. Additional information regarding the WRC-15 Advisory Committee is available on the Advisory Committee's Web site, http://www.fcc.gov/wrc-15. The meeting is open to the public.

Open captioning will be provided for this event. Other reasonable accommodations for people with disabilities are available upon request. Requests for such accommodations should be submitted via email to fcc504@fcc.gov or by calling the Consumer & Governmental Affairs Bureau at (202) 418-0530 (voice), (202) 418-0432 (TTY). Such requests should include a detailed description of the accommodation needed. In addition, please include a way for the FCC to contact the requester if more information is needed to fill the request. Please allow at least five days' advance notice; last minute requests will be accepted, but may not be possible to accommodate.

The proposed agenda for the first meeting is as follows:

Agenda

First Meeting of the WRC-15 Advisory Committee

Federal Communications Commission, 445 12th Street SW., Room TW-C305, Washington, DC 20554, August 9, 2012; 9:00 a.m.

1. Opening Remarks

2. Approval of Agenda

3. Advisory Committee Structure

4. WRC-15 Preparatory Process Timeline

5. Other Business

Federal Communications Commission.
Mindel De La Torre,
Chief, International Bureau.

[FR Doc. 2012-18184 Filed 7-24-12; 8:45 am]

BILLING CODE 6712-01-P